ARCHITECTURAL AND TRANSPORTATION BARRIERS COMPLIANCE BOARD

36 CFR Part 1192

RIN 3014-AA42

Rail Vehicles Access Advisory Committee

AGENCY: Architectural and Transportation Barriers Compliance Board.

ACTION: Notice of intent to establish advisory committee.

SUMMARY: We, the Architectural and Transportation Barriers Compliance Board (Access Board), plan to revise and update our accessibility guidelines issued pursuant to the Americans with Disabilities Act for transportation vehicles that operate on fixed guideway systems (e.g., rapid rail, light rail, commuter rail, and intercity rail). We are establishing a Rail Vehicles Access Advisory Committee (Committee) to make recommendations for revisions and updates to the accessibility guidelines. We request applications from interested organizations for representatives to serve on the Committee.

DATES: Submit applications by April 1, 2013.

ADDRESSES: Submit applications by any of the following methods:

• Mail or Hand Delivery/Courier: Paul Beatty, Access Board, 1331 F Street NW., Suite 1000, Washington, DC 20004-1111.

• Fax: 202-272-0081.

• Email: rvaac@access-board.gov.

FOR FURTHER INFORMATION CONTACT: Paul Beatty, Access Board, 1331 F Street NW., Suite 1000, Washington, DC 20004-1111. Telephone: (202) 272-0012 (Voice) or (202) 272-0072 (TTY). Email address: rvaac@access-board.gov.

SUPPLEMENTARY INFORMATION: In this notice, “we,” “us” and “our” refer to the Architectural and Transportation Barriers Compliance Board (Access Board).

The Americans with Disabilities Act requires us to issue guidelines to ensure that transportation vehicles covered by the statute are accessible to individuals with disabilities. 42 U.S.C. 12204. Our accessibility guidelines for transportation vehicles form the basis for legally enforceable accessibility standards issued by the U.S. Department of Transportation (DOT). Our accessibility guidelines for transportation vehicles are codified at 36 CFR part 1192; the DOT accessibility standards for transportation vehicles are codified at 49 CFR part 38.

We issued a notice of proposed rulemaking (NPRM) in 2010 to revise and update our accessibility guidelines for buses, over-the-road buses, and vans. 75 FR 43748 (July 26, 2010). The NPRM noted that we would revise and update our accessibility guidelines for transportation vehicles that operate on fixed guideway systems (e.g., rapid rail, light rail, commuter rail, and intercity rail) at a future date. To begin the process of revising and updating our accessibility guidelines for transportation vehicles that operate on fixed guideway systems, we are establishing a Rail Vehicles Access Advisory Committee (Committee) to make recommendations for revisions and updates to the guidelines. We request applications from representatives of the following interests for membership on the Committee:

• Manufacturers of transportation vehicles that operate on fixed guideway systems;

• Transportation providers that operate fixed guideway systems;

• Organizations representing individuals with disabilities; and

• Other entities whose interests may be affected by the accessibility guidelines.

Federal agencies may serve as ex-officio members on the advisory committee.

The number of Committee members will be limited so that the Committee's work can be accomplished effectively. The Committee will be balanced in terms of interests represented. We encourage organizations with similar interests to submit a single application to represent their interests. Although the Committee will be limited in size, there will be opportunities for the public to present information to the Committee and to comment at each Committee meeting. Federally registered lobbyists may not be appointed to the Committee pursuant to Presidential Memorandum dated June 18, 2010, entitled “Lobbyists on Agency Boards and Commissions” (http://www.whitehouse.gov/the-press-office/presidential-memorandum-lobbyists-agency-boards-and-commissions).

Applications should be sent to our office at the address listed at the beginning of this notice. There is no specific application form. The application should include the following information:

• Name of the organization;

• Interests represented by the organization;

• Person who will represent the organization and an alternate, and the title, address, telephone number, and email address for the representative and alternate;

• Description of the representative's qualifications, including engineering, technical, and design expertise and knowledge of making fixed guideway systems accessible to individuals with disabilities; and

• Certification that the representative and alternate are not federally registered lobbyists.

Committee members will not be compensated for their service. We may pay travel expenses for a limited number of persons who would otherwise be unable to participate on the Committee. Committee members will serve as representatives of their organizations, not as individuals. Committee members will not be considered special government employees and will not be required to file confidential financial disclosure reports.

After the applications have been reviewed, we will publish a notice in the Federal Register announcing the appointment of Committee members and the first meeting of the Committee. The Committee will operate in accordance with the Federal Advisory Committee Act, 5 U.S.C. app 2. All Committee meetings are expected to be held at our office in Washington, DC. Committee meetings will be open to the public. A notice of each Committee meeting will be published in the Federal Register at least 15 days in advance of the meeting. Records will be kept of each Committee meeting and made available for public inspection.

David M. Capozzi,
Executive Director.

[FR Doc. 2013-03380 Filed 2-13-13; 8:45 am]

BILLING CODE 8150-01-P